DEPARTMENT OF COMMERCE

International Trade Administration

[A-489-501]

Welded Carbon Steel Standard Pipe and Tube Products From Turkey: Final Results of Antidumping Duty Administrative Review and Final Determination of No Shipments; 2013-2014

AGENCY: Enforcement and Compliance, International Trade Administration, Department of Commerce.

SUMMARY: On June 5, 2015, the Department of Commerce (the Department) published the preliminary results of the administrative review of the antidumping duty order on welded carbon steel standard pipe and tube products (welded pipe and tube) from Turkey.¹ The period of review (POR) is May 1, 2013 through April 30, 2014. The review covers the following producers/exporters of the subject merchandise: Borusan Istikbal Ticaret T.A.S. and Borusan Mannesmann Boru Sanayi ve Ticaret A.S. (collectively, Borusan); ² Toscelik Profil ve Sac Endustrisi A.S. and Tosyali Dis Ticaret A.S. (collectively, Toscelik); ³ and ERBOSAN Erciyas Boru Sanayi ve Ticaret A.S. (Erbosan). Based on our analysis of the comments received, we have made certain changes in the margin calculations. Therefore, the final results differ from the preliminary results. The final weighted-average dumping margins for the reviewed firms are listed below in the section entitled, “Final Results of the Review.” Further, we find that one of the companies covered by this review had no shipments of subject merchandise during the POR.

¹ See Welded Carbon Steel Standard Pipe and Tube Products From Turkey: Preliminary Results of Antidumping Duty Administrative Review; 2013-2014, 80 FR 32090 (June 5, 2015) (Preliminary Results).

² As explained in the Preliminary Results, the Department treats Borusan Mannesmann Boru Sanayi ve Ticaret A.S. and Borusan Istikbal Ticaret T.A.S. as the same legal entity. See Preliminary Results, 80 FR at 32090 and n. 3.

³ As explained in the Preliminary Results, the Department treats Toscelik Profil ve Sac Endustrisi A.S. and Tosyali Dis Ticaret A.S. as the same legal entity. Id.

DATES: Effective date: December 10, 2015.

FOR FURTHER INFORMATION CONTACT: Fred Baker, Deborah Scott, or Robert James AD/CVD Operations, Office VI, Enforcement and Compliance, International Trade Administration, U.S. Department of Commerce, 14th Street and Constitution Avenue NW., Washington, DC 20230; telephone: (202) 482-2924, (202) 482-2657, and (202) 482-0649, respectively.

SUPPLEMENTARY INFORMATION:

Background

On June 5, 2015, the Department published the Preliminary Results of this review in the Federal Register. We invited parties to comment on the Preliminary Results. On July 26, 2015, we received a case brief from Toscelik. On July 27, 2015, we received case briefs from Allied Tube & Conduit and TMK IPSCO (petitioner) and from Borusan. On August 10, 2015, we received rebuttal briefs from petitioner, Borusan, and Toscelik. The Department conducted this review in accordance with section 751(a)(2) of the Tariff Act of 1930, as amended (the Act).

Scope of the Order

The merchandise subject to the order is welded pipe and tube. The welded pipe and tube subject to the order is currently classifiable under subheading 7306.30.1000, 7306.30.5025, 7306.30.5032, 7306.30.5040, 7306.30.5055, 7306.30.5085, and 7306.30.5090 of the Harmonized Tariff Schedule of the United States (HTSUS). The HTSUS subheadings are provided for convenience and customs purposes only. The written description is dispositive.⁴

⁴ A full written description of the scope of the order is contained in the memorandum from Gary Taverman, Associate Deputy Assistant Secretary for Antidumping and Countervailing Duty Operations, to Christian Marsh, Deputy Assistant Secretary for Antidumping and Countervailing Duty Operations, “Issues and Decision Memorandum for the Final Results of the Antidumping Duty Administrative Review: Welded Carbon Steel Standard Pipe and Tube Products from Turkey; 2013-2014,” (Issues and Decision Memorandum), dated concurrently with this notice and which is incorporated herein by reference.

Final Determination of No Shipments

In the Preliminary Results, the Department preliminarily determined that Erbosan had no shipments during the POR.⁵ Following publication of the Preliminary Results, we received no comments from interested parties regarding this company. As a consequence, and because the record contains no evidence to the contrary, we continue to find that Erbosan made no shipments during the POR. Accordingly, consistent with the Department's practice, we intend to instruct U.S. Customs and Border Protection (CBP) to liquidate any existing entries of merchandise produced by Erbosan, but exported by other parties without their own rate, at the all-others rate.⁶

⁵ See Preliminary Results, 80 FR at 32091 and the accompanying preliminary decision memorandum at 3-4.

⁶ See, e.g. Magnesium Metal From the Russian Federation: Preliminary Results of Antidumping Duty Administrative Review, 75 FR 26922, 26923 (May 13, 2010), unchanged in Magnesium Metal From the Russian Federation: Final Results of Antidumping Duty Administrative Review, 75 FR 56989 (September 17, 2010).

Analysis of the Comments Received

All issues raised in the case and rebuttal briefs submitted in this review are addressed in the Issues and Decision Memorandum, which is hereby adopted with this notice. A list of the issues raised is attached as an appendix to this notice. The Issues and Decision Memorandum is a public document and is on file electronically via Enforcement and Compliance's Antidumping and Countervailing Duty Centralized Electronic Service System (ACCESS). ACCESS is available to registered users at http://access.trade.gov and it is available to all parties in the Central Records Unit, Room B8024 of the main Department of Commerce building. In addition, a complete version of the Issues and Decision Memorandum can be accessed directly at http://enforcement.trade.gov/frn/index.html. The signed Issues and Decision Memorandum and the electronic versions of the Issues Decision Memorandum are identical in content.

Changes Since the Preliminary Results

Based on our analysis of the comments received, we made certain changes to the Preliminary Results. For a discussion of these changes, see Issues and Decision Memorandum.

Final Results of the Review

As a result of this review, we determine that the following weighted-average dumping margins exist for the period May 1, 2013 through April 30, 2014:

Producer or exporter | Weighted- average dumping margin (percent)
Borusan Mannesmann Boru Sanayi ve Ticaret A.S.⁷ | 3.16
Toscelik Profil ve Sac Endustrisi A.S.⁸ | 0.00

Disclosure

We intend to disclose the calculations performed for these final results of review within five days of the date of publication of this notice in the Federal Register, in accordance with 19 CFR 351.224(b).

⁷ Also includes Borusan Istikbal Ticaret T.A.S. See footnote 3.

⁸ Also includes Tosyali Dis Ticaret A.S. See footnote 2.

Assessment

The Department shall determine, and CBP shall assess, antidumping duties on all appropriate entries covered by this review pursuant to section 751(a)(2)(C) of the Act and 19 CFR 351.212(b).

For Borusan, because its weighted-average dumping margin is not zero or de minimis (i.e., less than 0.5 percent), the Department has calculated importer-specific antidumping duty assessment rates. We calculated importer-specific ad valorem antidumping duty assessment rates by aggregating the total amount of dumping calculated for the examined sales of each importer and dividing each of these amounts by the total entered value associated with those sales. We will instruct CBP to assess antidumping duties on all appropriate entries covered by this review where an importer-specific assessment rate is not zero or de minimis. Pursuant to 19 CFR 351.106(c)(2), we will instruct CBP to liquidate without regard to antidumping duties any entries for which the importer-specific assessment rate is zero or de minimis.

For Toscelik, we will instruct CBP to liquidate its entries during the POR imported by the importers identified in its questionnaire responses without regard to antidumping duties because its weighted-average dumping margin in these final results is zero.⁹ Consistent with the Department's assessment practice, for entries of subject merchandise during the POR produced by Borusan, Erbosan, or Toscelik for which they did not know that the merchandise was destined for the United States, we will instruct CBP to liquidate unreviewed entries at the all-others rate if there is no rate for the intermediate company(ies) involved in the transaction.¹⁰

⁹ See Antidumping Proceeding: Calculation of the Weighted-Average Dumping Margin and Assessment Rate in Certain Antidumping Duty Proceedings; Final Modification, 77 FR 8103, 8103 (February 14, 2012).

¹⁰ For a full discussion of this practice, see Antidumping and Countervailing Duty Proceedings: Assessment of Antidumping Duties, 68 FR 23954 (May 6, 2003).

We intend to issue instructions to CBP 15 days after publication of the final results of this review.

Cash Deposit Requirements

The following cash deposit requirements will be effective for all shipments of subject merchandise entered, or withdrawn from warehouse, for consumption on or after the publication date of the final results of this administrative review, as provided by section 751(a)(2) of the Act: (1) The cash deposit rates for Borusan and Toscelik will be equal to the weighted-average dumping margins established in the final results of this review; (2) for previously reviewed or investigated companies not participating in this review, the cash deposit rate will continue to be the company-specific rate published for the most recently completed segment of this proceeding in which the company was reviewed; (3) if the exporter is not a firm covered in this review, a previous review, or the original less-than-fair-value (LTFV) investigation, but the manufacturer is, the cash deposit rate will be the rate established for the most recently completed segment of this proceeding for the manufacturer of subject merchandise; and (4) the cash deposit rate for all other manufacturers or exporters will continue to be 14.74 percent, the all-others rate established in the LTFV investigation.¹¹ These deposit requirements, when imposed, shall remain in effect until further notice.

¹¹ See Antidumping Duty Order; Welded Carbon Steel Standard Pipe and Tube Products From Turkey, 51 FR 17784 (May 15, 1986).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

We are issuing and publishing these results in accordance with sections 751(a)(1) and 777(i)(1) of the Act.

Dated: December 2, 2015.
Christian Marsh,
Deputy Assistant Secretary for Antidumping and Countervailing Duty Operations.

Appendix—List of Topics Discussed in the Issues and Decision Memorandum

Summary

Background

Scope of the Order

Discussion of the Issues

General Comments

1. Duty Drawback

2. Duty Drawback and Treatment of the Resource Utilization Support Fund

3. Deducting Certain Expenses from the Duty Drawback Calculation

4. Making a Duty Drawback Adjustment to Normal Value and/or Capping the U.S. Duty Drawback Adjustment

5. Treatment of Duty Drawback in the Cash Deposit Rate and Assessment Rate

6. Other Arguments Related to Duty Drawback

7. Differential Pricing Analysis Should Not Be Used Because the Cohen's d Test Does Not Measure Targeted or Masked Dumping

8. Differential Pricing Analysis Reasoning for Use of Average-to-Transaction Comparison Methodology is Arbitrary and Unlawful

Company-Specific Comments

Borusan

9. Duty Drawback and Treatment of the Yield Loss Factor

10. Home Market Sales of Overruns and the Ordinary Course of Trade

11. Domestic Inland Freight Expenses

12. International Freight Expenses

Toscelik

13. Billing Adjustments

14. Duty Drawback

15. Duty Drawback Adjustment to Cost

16. Toscelik's Net Financial Expense

Recommendation

[FR Doc. 2015-31188 Filed 12-9-15; 8:45 am]

BILLING CODE 3510-DS-P